DEPARTMENT OF AGRICULTURE

Natural Resources Conservation Service

Lingle-Ft. Laramie Water Quality Project, Goshen County, WY

AGENCY: Natural Resources Conservation Service, USDA.

ACTION: Notice of a Finding of No Significant Impact.

SUMMARY: Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Lingle-Ft. Laramie Water Quality Project, Goshen County, Wyoming.

FOR FURTHER INFORMATION CONTACT: Lincoln E. Burton, State Conservationist, Natural Resources Conservation Service, Room 3124, Federal Building, 100 East B Street, Casper, Wyoming 82601, telephone (307) 261-6453.

SUPPLEMENTARY INFORMATION: The environmental assessment of this federally assisted action indicates that the project will not cause significant local, regional, or national impacts on the human environment. As a result of these findings, Lincoln E. Burton, State Conservationist, has determined that the preparation and review of an environmental impact statement are not needed for this project.

The project purposes have been changed to include Wildlife Habitat Improvement. Project purposes are: (1) Agricultural Water Management—the on-site treatment of agricultural related pollutants for off-site benefits. The planned works of improvement include accelerated technical assistance for land treatment, accelerated financial assistance to treat 8,300 acres to reduce the amount of nitrogen available to be leached to the groundwater, 25 animal waste management facilities, and 35 abandoned wells will be decommissioned. (2) Wildlife Habitat Improvement—on-site treatment will increase wildlife habitat units by about 1,100 units.

The Notice of a Finding Of No Significant Impact (FONSI) has been forwarded to the Environmental Protection Agency (EPA) and to various federal, state, and local agencies, and interested parties. A limited number of copies of the FONSI is available to fill single copy requests at the above address. Basic data developed during the environmental assessment are on file and may be reviewed by contacting Lincoln E. Burton.

No administrative action on implementation of the proposal will be taken until 30 days after the date of this publication in the Federal Register. The Environmental Assessment will then be signed and funding authorization requested. All plans will be written within five years, and implementation will continue for up to ten years.

Dated: March 21, 2003.
Lincoln E. Burton,
State Conservationist.
(This activity is listed in the Catalog of Federal Domestic Assistance under NO. 10.904, Watershed Protection and Flood Prevention, and is subject to the provisions of Executive Order 12372, which requires intergovernmental consultation with state and local officials.)

Finding of No Significant Impact for Lingle-Ft. Laramie Water Quality Project; Goshen County, Wyoming

Introduction

The Lingle-Ft. Laramie Water Quality Project is a federally assisted action authorized for planning under Pub. L. 83-566, the Watershed Protection and Flood Prevention Act. An environmental assessment was undertaken in conjunction with the development of the watershed plan. This assessment was conducted in consultation with local, state, and federal agencies, including section 7(a)(2) of the Endangered Species Act of 1973, as amended (50 CFR 402.13) consultation, as well as with interested organization and individuals. Data developed during the assessment is available for public review at the following location: U.S. Department of Agriculture, Natural Resources Conservation Service, Room 3124 Federal Building, 100 East B Street, Casper, Wyoming 82601-1969.

Recommended Action—Alternative 2: Accelerated Land Treatment

Proposed is the development of about 48 conservation plans that will provide for land treatment and wildlife habitat improvement measures to be applied on farms for the reduction of the agricultural contribution to nitrate contamination of the groundwater and habitat improvement. The proposed plan will treat 8,300 acres with increased irrigation efficiency to reduce the amount of nitrogen available to be leached to the groundwater. Twenty-five animal waste management facilities and application practices will be installed in the watershed. Thirty-five abandoned wells will be decommissioned. Wildlife habitat units will be increased by 1,100 units.

Costs were updated from 2000 Draft EA to 2003 costs, due to a change in discount rates. Federal cost share will be at 65 percent for a total financial assistance of $3,534,020. Average annual benefits equals $1,017,170, with average annual costs equal to $801,333, for a benefit: cost ratio of 1.27:1. FT 2003 Water Resources discount rate at 5.785 percent.

Effect of Recommended Action

The recommended action will improve groundwater quality, improve human health and safety, improve irrigation efficiency, reduce irrigation labor, and increase wildlife habitat. Nitrates available for leaching will be reduced through installation of fertilizer injection systems, nutrient management, and irrigation water management.

The proposed action will reduce the amount of nitrogen available to be leached. It is estimated at full implementation, there will be a 33 percent reduction of nitrate leached below the root zone, which equals about 81 pounds of nitrate per acre each year over the entire project area at a 60 percent participation rate. Nitrogen reduction is considered not to be a controversial issue.

The proposed action will install 25 animal waste management systems to collect and store run-off from feed lots until it can be safely applied to the agricultural fields.

The proposed action will improve on farm irrigation efficiency, which will increase the water available to meet crop consumptive use.

The proposed action will increase the number of wildlife habitat units by about 1,100 units as treatments are installed.

A literature review and search of the State Historic Preservation Office (SHPO) records were conducted for the project area. The effect of project installation will be determined for each individual project contract according to Natural Resource Conservation Service, Northern Plains Region procedures.

It is likely that more sites will be discovered during the planning and installation of the accelerated land treatment practices. Since project practices will be installed on a “voluntary participation” basis, location of ground disturbances is presently unknown. Most surface disturbances below the plow zone will occur as a result of installing ag waste facilities, pipelines, land leveling, grading, and shaping. NRCS cultural resources procedures, as described in the NRCS Northern Plains Region procedures, will be followed when ground disturbances are planned.

Compliance with National Environmental Policy Act (NEPA) protection rules for each farm will follow the procedures in the NRCS General Manual, Section 190 and 420, respectively.

The proposed action will have little or no effect on wetlands. With on farm improved irrigation efficiencies some reduction in tail water run-off will occur, but with the sandy soils in the watershed most of the run-off has gone to groundwater and not surface water. Wetland restoration, creation and enhancement will increase a total of about 24 acres as operator's contracts are developed. A 2 acre-foot depletion will be offset by a debit from the National Fish and Wildlife Foundation account.

No wilderness areas are in the watershed.

There is potential habitat for the threatened Ute ladies' tresses (Spiranthes diluvialis) and Preble's meadow jumping mouse (Zapus hudsonius preblei), but none have been identified within the watershed, the determination of “may affect, but not likely to adversely affect” for both species, was arrived at with section 7(a)(2) of the Endangered Species Act of 1973, as amended (50 CFR 402.13) consultation. The habitat will not be adversely impacted. There are no known resident threatened or endangered animals within the watershed area.

The proposed action will increase vegetative cover suitable for wildlife as a result of the application of conservation practices that include vegetative components. Wildlife habitat units will increase by about 1,100 units. Fish habitat will not be effected.

The proposed action will not disproportionately affect any protected groups.

No significant adverse environmental impacts will result from installation of the proposed action.

Alternatives

Based on the above summary of effects (as discussed in the EA), I have determined the alternative that I have selected, will not have significant affect on the human environment. For that reason, no environmental impact statement needs to be prepared.

The planned action is the most practical means of reducing the agricultural contribution of nitrate to the groundwater. Because no significant adverse environmental impacts will result from the installation of the on farm conservation measures, no other alternatives, other than the no action alternative, were considered.

Consultation—Public Participation

On June 17, 1996, the North Platte Valley Conservation District, and the Lingle-Fort Laramie Conservation District Boards of Supervisors, filed an application for Pub. L. 83-566 assistance in developing a plan for the Goshen County, Lingle-Ft. Laramie Water Quality Project. The State of Wyoming Governor's Office referred the application to the Wyoming Board of Agriculture for ranking and approval. On September 18, 2000, the board gave the project a ranking of high and approved the request to be submitted to the NRCS. Acceptance was acknowledged by the State Conservationist, and appropriate agencies and Sponsors were notified. The town of Torrington and the Goshen County Commissioners were later added to the list of Sponsors.

The Sponsors held two interagency and two public meetings to determine the extent of the problem. The Sponsors requested that NRCS analyze alternative solutions and prepare a preliminary investigation report. In September 2000, a preliminary investigation report was completed for the Lingle-Ft. Laramie Water Quality Project.

Numerous newspaper articles, newsletters, and radio public service announcements have been aired in order to provide public information. Public meetings, with the news media in attendance, were held to gain public input and inform the public.

On October 24, 1996, an interagency meeting was held to determine concerns of the other agencies.

June 14, 2000, a public scoping meeting was held to determine public concerns and opinions. A public response analysis was completed on the responses.

On October 18, 2000, another public meeting was held to review the alternatives developed and obtain further public input.

On June 11, 2001, the Sponsors met to review the Draft Plan-EA.

On July 25, 2002, the Sponsors held a public meeting to begin the Public/Interagency review of the Draft Plan-EA. Written comments were requested from agencies, organizations, and groups identified in the planning process as interested. The comments were reviewed and responses prepared on each comment. The comments and responses are contained in the Final Plan Environmental Assessment.

Written comments were requested from 70 agencies, organizations, and groups identified in the planning process.

Agency consultation and public participation to date have shown no unresolved conflicts with the implementation of the selected plan. Section 7(a)(2) of the Endangered Species Act of 1973, as amended (50 CFR 402.13) consultation has been completed and incorporated.

Conclusion

The Environmental Assessment summarized above indicates that this federal action will not cause significant local, regional, or national impacts on the environment. Therefore, based on the above findings, I have determined that an environmental impact statement for the Lingle-Ft. Laramie Water Quality Project Plan is not required.

Additional Information or questions can be directed to: George W. Cleek IV, Assistant State Conservationist, USDA-NRCS, 100 East B Street, Room 3124, Casper, WY 82601-1969, Phone: 307-261-6457, e-mail: george.cleek@wy.usda.gov.

Dated: March 21, 2003.
Lincoln E. Burton,
State Conservationist.

[FR Doc. 03-8030 Filed 4-2-03; 8:45 am]

BILLING CODE 3410-16-P